DEPARTMENT OF THE INTERIOR

Fish and Wildlife Service

Receipt of Applications for Endangered Species Permits

AGENCY: Fish and Wildlife Service, Interior.

ACTION: Notice.

SUMMARY: The public is invited to comment on the following applications to conduct certain activities with endangered species. We provide this notice pursuant to section 10(c) of the Endangered Species Act of 1973, as amended (16 U.S.C. 1531 et seq.).

DATES: We must receive written data or comments on these applications at the address given below, by May 27, 2005.

ADDRESSES: Documents and other information submitted with these applications are available for review, subject to the requirements of the Privacy Act and Freedom of Information Act, by any party who submits a written request for a copy of such documents to the following office within 30 days of the date of publication of this notice: U.S. Fish and Wildlife Service, 1875 Century Boulevard, Suite 200, Atlanta, Georgia 30345 (Attn: Victoria Davis, Permit Biologist).

FOR FURTHER INFORMATION CONTACT: Victoria Davis, telephone 404/679-4176; facsimile 404/679-7081.

SUPPLEMENTARY INFORMATION: The public is invited to comment on the following applications for permits to conduct certain activities with endangered and threatened species. If you wish to comment, you may submit comments by any one of the following methods. You may mail comments to the Service's Regional Office (see ADDRESSES section) or via electronic mail (e-mail) to victoria_davis@fws.gov. Please submit electronic comments as an ASCII file avoiding the use of special characters and any form of encryption. Please also include your name and return address in your e-mail message. If you do not receive a confirmation from the Service that we have received your e-mail message, contact us directly at the telephone number listed above (see FOR FURTHER INFORMATION CONTACT section). Finally, you may hand deliver comments to the Service office listed above (see ADDRESSES section).

Our practice is to make comments, including names and home addresses of respondents, available for public review during regular business hours. Individual respondents may request that we withhold their home address from the administrative record. We will honor such requests to the extent allowable by law. There may also be other circumstances in which we would withhold from the administrative record a respondent's identity, as allowable by law. If you wish us to withhold your name and address, you must state this prominently at the beginning of your comments. However, we will not consider anonymous comments. We will make all submissions from organizations or businesses, and from individuals identifying themselves as representatives or officials of organizations or businesses, available for public inspection in their entirety.

Applicant: Jeremy Lynn Jackson, Chapmanville, West Virginia, TE102292-0.

The applicant requests authorization to take (capture, identify, release) the following species: Virginia Big-eared bat (Corynorhinus townsendii virginianus), gray bat (Myotis grisescens), and Indiana bat (Myotis sodalis). The proposed activities would take place while conducting presence/absence surveys, cave surveys, and abandoned mine surveys. The proposed activities would occur in West Virginia, Virginia, Tennessee, North Carolina, and Kentucky.

Applicant: Thomas Edward Dickinson, The Catena Group, Hillsborough, North Carolina, TE102324-0.

The applicant requests authorization to take (capture, identify, release, salvage relic shell material) the James spinymussel (Pleurobema collina), tar spinymussel (Elliptio steinstansana), dwarf-wedge mussel (Alasmidonta heterodon), Carolina heelsplitter (Lasmigona decorata), Appalachian elktoe (Alasmidonta raveneliana), littlewing pearlymussel (Pegias fabula), oyster mussel (Epioblasma capsaeformis), and Cumberland bean (Villosa trabalis) while conducting presence/absence studies, population counts, and relocation activities. The proposed activities would occur in North Carolina, South Carolina, and Georgia.

Applicant: Temple-Inland Forest Products Corporation, Forest Products and Timber Land Management, Niboll, Texas, TE012336-0.

The applicant requests authorization to harass (install and monitor artificial nest cavities) red-cockaded woodpeckers (Picoides borealis) while conducting population management activities. The proposed activities would occur throughout the species ranges in Alabama, Georgia, Louisiana, and Texas.

Applicant: Jeffrey H. Schwierjohann, Winchester, Kentucky, TE102358-0.

The applicant requests authorization to take (capture, band, radio-tag, monitor nest, release) the following species: Indiana bat (Myotis sodalis), gray bat (Myotis grisescens), Virginia big-eared bat (Corynorhinus townsendii virginianus), Ozark big-eared bat (Corynorhinus townsendii ingens), Cumberland bean (Villosa trabalis), Cumberlandian combshell (Epioblasma brevidens), Cumberland elktoe (Alasmidonta atropurpurea), ringpink (Obovari retusa), blackside dace (Phoxinus cumberlandensis), Apios priceana (Price's potato-bean), Arabis perstellata (Braun's rock cress), Helianthus eggertii (Eggert's sunflower), Spiraea virginiana (Virginia spiraea), Solidago albopilosa (white-haired goldenrod), and Trifolium stoloniferum (running buffalo clover) while conducting presence/absence studies and determining the use of a project area by target species. The proposed activities would occur throughout the species ranges in Alabama, Arkansas, Georgia, Illinois, Indiana, Kentucky, Maryland, Missouri, North Carolina, Ohio, Oklahoma, Tennessee, Virginia, and West Virginia.

Applicant: Conservation Management Institute-Virginia Polytech Institute & State University, Blacksburg, Virginia, TE102410-0.

The applicant requests authorization to take (capture, identify, release) the following species: Ozark big-eared bat (Corynorhinus townsendii ingens), gray bat (Myotis grisescens), and Indiana bat (Myotis sodalis). The proposed activities would take place while conducting presence/absence surveys. The proposed activities would occur at the Fort Chaffee Maneuver Training Center, Arkansas National Guard, Fort Smith, Arkansas.

Applicant: Florida Army National Guard, Camp Blanding Joint Training Center-Environmental Division, Starke, Florida, TE102418-0.

The applicant requests authorization to harass (capture, band, release, install and monitor artificial nest cavities, collect non-viable eggs) red-cockaded woodpeckers (Picoides borealis) while conducting presence/absence studies and population management activities. The proposed activities would occur on Camp Blanding Joint Training Center, Starke, Florida.

Applicant: Jeff M. Selby, Decatur, Alabama, TE100626-0

The applicant requests authorization to take (capture, identify, photograph, release) the following species: pygmy sculpin (Cottus pygmaeus), blue shiner (Cyprinella caerulea), spotfin chub (Cyprinella monacha), slender chub (Erimystax cahni), duskytail darter (Etheostoma percnurum), slackwater darter (Etheostoma Boschungi), Vermilion darter (Etheostoma chermocki), Etowah darter (Etheostoma etowahae), watercress darter (Etheostoma nuchale), bayou darter (Etheostoma rubrum), Cherokee darter (Etheostoma scotti), bluemask darter (Etheostoma sp.), boulder darter (Etheostoma wapiti), cahaba shiner (Notropis cahabae), Palezone shiner (Notropis albizonatus), smoky madtom (Noturus baileyi), yellow madtom (Noturus flavipinnis), pygmy madtom (Noturus stanauli), amber darter (Percina antesella), goldline darter (Percina aurolineata), Conasauga logperch (Percina jenkinsi), snail darter (Percina tanasi), blackside dace (Phoxinus cumberlandensis), pallid sturgeon (Scaphirhynchus albus) Cumberland elktoe (Alasmidonta atropurpurea), Appalachian elktoe (Alasmidonta raveneliana), fat three-ridge (Amblema neislerii), fanshell mussel (Cyprogenia stegaria), Dromedary pearly mussel (Dromus dromas), Chipola slabshell (Elliptio chipolaensis), purple bankclimber (Elliptoideus sloatianus), green-blossom pearly mussel (Epioblasma torulosa gubernaculums), Tuberculed-blossom pearly mussel (Epioblasma torulosa torulosa), Turgid-blossom pearly mussel (Epioblasma turgidula), tan riffleshell (Epioblasma florentina walkeri (=E. walkeri), Cumberland combshell (Epioblasma brevidens), oyster mussel (Epioblasma capsaeformis), yellow-blossom pearly mussel (Epioblasma florentina florentina), upland combshell mussel (Epioblasma metastriata), southern acornshell mussel (Epioblasma othcalogensis), southern combshell mussel (Epioblasma penita), purple cat's paw pearly mussel (Epioblasma obliquata obliquata), Turgid blossom pearly mussel (Epioblasma turgidula), shiny pigtoe mussel (Fusconaia cor), finerayed pigtoe mussel (Fusconaia cuneolus), cracking pearlymussel (Hemistena lata), pink mucket pearly mussel (Lampsilis abrupta), fine-lined pocketbook mussel (Lampsilis altilis), orangenacre mucket mussel (Lampsilis perovalis), shinyrayed pocketbook (Lampsilis subangulata), Alabama lamp mussel (Lampsilis virescens), birdwing pearly mussel (Conradilla Caelata), Alabama moccasinshell mussel (Medionidus acutissimus), Coosa moccasinshell mussel (Medionidus parvulus), Gulf moccasinshell (Medionidus penicillatus), Ochlockonee moccasinshell (Medionidus simpsonianus), pink ring (Obovaria retusa), Little-wing pearly mussel (Pegias fabula), white wartyback mussel (Plethobasus cicatricosus), Orange-footed mussel (Plethobasus cooperianus), clubshell (Pleurobema clava), black clubshell (Pleurobema curtum), southern clubshell mussel (Pleurobema decisum), dark pigtoe pearly mussel (Pleurobema furvum), southern pigtoe mussel (Pleurobema georgianum), Cumberland pigtoe (Pleurobema gibberum), flat pigtoe mussel (Pleurobema marshalli), ovate clubshell mussel (Pleurobema perovatum), rough pigtoe mussel (Pleurobema plenum), oval pigtoe (Pleurobema pyriforme), heavy pigtoe mussel (Pleurobema taitianum), fat pocketbook (Potamilus capax), inflated heelsplitter mussel (Potamilus inflatus), triangular kidneyshell mussel (Ptychobranchus greeni), rough rabbitsfoot (Quadrula Cylindrica strigillata), Winged mapleleaf mussel (Quadrula fragosa), cumberland monkeyface pearlymussel (Quadrula intermedia), Appalachian monkeyface pearlymussel (Quadrula sparsa), Stirrupshell mussel (Quadrula stapes), pale lilliput pearly mussel (Toxolasma cylindrellus), purple bean (Villosa perpurpurea), Cumberland bean pearly mussel (Villosa trabalis), Anthony's riversnail (Athearnia anthonyi), Slender campeloma (Campeloma decampi), Lacy elimia snail (Elimia crenatella), round rocksnail (Leptoxis ampla), plicate rocksnail (Leptoxis plicata), Painted rocksnail (Leptoxis taeniata), Flat pebblesnail (Lepyrium showalteri), cylindrical lioplax snail (Lioplax cyclostomaformis), armored snail (Pyrgulopsis (=Marstonia pachyta), Tulotoma snail (Tulotoma magnifica), painted snake coil forest snail (Anguispira picta), royal mrstonia snail (Pyrgulopsis ogmorhaphe), Nashville crayfish (Orconectes shoupi).

The proposed activities would occur while conducting presence/absence surveys throughout the states of Alabama, Tennessee, Mississippi, Georgia, Florida, and Kentucky.

Dated: April 11, 2005.
Cynthia K. Dohner,
Acting Regional Director.

[FR Doc. 05-8401 Filed 4-26-05; 8:45 am]

BILLING CODE 4310-55-P